NATIONAL AERONAUTICS AND SPACE ADMINISTRATION

[06-089]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)).

DATES: All comments should be submitted within 60 calendar days from the date of this publication.

ADDRESSES: All comments should be addressed to Mr. Walter Kit, National Aeronautics and Space Administration, Washington, DC 20546-0001.

FOR FURTHER INFORMATION CONTACT: Requests for additional information or copies of the information collection instrument(s) and instructions should be directed to Mr. Walter Kit, NASA PRA Officer, NASA Headquarters, 300 E Street, SW., JE000, Washington, DC 20546, (202) 358-1350, Walter.Kit-1@nasa.gov.

SUPPLEMENTARY INFORMATION:

I. Abstract

In response to NASA's change in mission, i.e., to explore the solar system, NASA is reexamining approaches to structuring, sizing, and managing its programs by benchmarking best practices in select successful programs in corporate America.

II. Method of Collection

Approximately 50% of the data collection will be electronic.

III. Data

Title: NASA Benchmarking of Program Office Size, Structure, and Performance.

OMB Number: 2700-XXXX.

Type of Review: New collection.

Affected Public: For-profit and not-for-profit institutions.

Number of Respondents: 30 Corporations.

Responses per Respondent: 1.

Annual Responses: 30.

Hours per Request: 124.

Annual Burden Hours: 3720.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gary L. Cox,
Deputy Chief Information Officer (Acting).

[FR Doc. E6-21774 Filed 12-20-06; 8:45 am]

BILLING CODE 7510-13-P